DEPARTMENT OF LABOR

Employment and Training Administration

[NAFTA-NAFTA-04834]

Admiral Marine Construction, Inc., Port Angeles, WA; Notice of Termination of Investigation

Pursuant to Title V of the North American Free Trade Agreement Implementation Act (Public Law 103-182) concerning transitional adjustment assistance, hereinafter called (NAFTA-TAA), and in accordance with Section 250(a), Subchapter D, Chapter 2, Title II, of the Trade Act of 1974, as amended (19 U.S.C. 2273), an investigation was initiated on May 1, 2001 in response to a petition filed on behalf of workers at Admiral Marine Construction, Inc., Port Angeles, Washington.

The petitioner requested that he petition for NAFTA-TAA be withdrawn. Consequently, further investigation in this case would serve no purpose, and the investigation has been terminated.

Signed at Washington, DC, this 18th day of July, 2001.
Linda G. Poole,
Certifying Officer, Division of Trade Adjustment Assistance.

[FR Doc. 01-19609 Filed 8-3-01; 8:45 am]

BILLING CODE 4510-30-M